NUCLEAR REGULATORY COMMISSION

[Docket No. 70-27]

Consideration of License Amendment Request for BWX Technologies, Inc., and Opportunity for Hearing

AGENCY: Nuclear Regulatory Commission.

ACTION: Notice of Availability of Environmental Assessment and Finding of No Significant Impact and Opportunity to Request a Hearing on Amendment of Materials License SNM-42, BWX Technologies, Inc.

SUMMARY: The U.S. Nuclear Regulatory Commission is considering the amendment of Special Nuclear Material License SNM-42 to exempt BWX Technologies, Inc. from the beryllium-to-fissile mass ratio limit specified in the fissile material exemption standards of 10 CFR 71.53.

Environmental Assessment

1.0 Introduction

1.1 Background

The Nuclear Regulatory Commission (NRC) staff has evaluated the environmental impacts of the exemption of BWX Technologies, Inc. (BWXT) from the beryllium-to-fissile mass ratio limits specified in the fissile material exemption standards of 10 CFR 71.53 . This Environmental Assessment (EA) has been prepared pursuant to the Council on Environmental Quality (CEQ) regulations (40 CFR parts 1500-1508) and NRC regulations (10 CFR part 51) which implement the requirements of the National Environmental Policy Act (NEPA) of 1969. The purpose of this document is to assess the environmental consequences of the proposed license amendment.

The BWXT facility in Lynchburg, VA is authorized under SNM-42 to possess nuclear materials for the fabrication and assembly of nuclear fuel components. The facility supports the U.S. naval reactor program, fabricates research and university reactor components, and manufactures compact reactor fuel elements. The facility also performs recovery of scrap uranium. Research and development activities related to the fabrication of nuclear fuel components are also conducted.

1.2 Review Scope

In accordance with 10 CFR part 51, this EA (1) presents information and analysis for determining whether to issue a Finding of No Significant Impact (FONSI) or to prepare an Environmental Impact Statement (EIS); (2) fulfills the NRC's compliance with the National Environmental Policy Act (NEPA) when no EIS is necessary; and (3) facilitates preparation of an EIS if one is necessary. Should the NRC issue a FONSI, no EIS would be prepared and the license amendment would be granted.

1.3 Proposed Action

The proposed action is to amend NRC Materials License SNM-42 to exempt the licensee from the beryllium-to-fissile mass ratio limit specified in the fissile material exemption standards of 10 CFR 71.53.

1.4 Need for Proposed Action

The proposed action would allow the licensee to transport uranium-beryllium waste with fission and activation products under the requirements of 10 CFR part 71. The licensee may use the fissile material exemption specified in 10 CFR 71.53 with an exemption to the 0.1 percent beryllium-to-fissile mass ratio limit.

The provisions of 10 CFR 71.53 exempt the shipment of material with limited fissile mass from the fissile material package standards in 10 CFR 71.55 and 71.59. The fissile material exemption in 10 CFR 71.53 is only valid for materials that contain a mass of beryllium that is less than 0.1 percent of the mass of fissile material. BWXT has identified waste material with a limited amount of fissile material, but with beryllium quantities that exceed the 0.1 percent beryllium-to-fissile mass ratio limit. BWXT needs to ship these wastes, which consist of large physical objects (e.g., ductwork). BWXT does not want to ship the waste in transportation packages that are approved by the NRC because the waste materials would require significant cutting and processing that would increase the risk of beryllium exposure to personnel. The uranium and beryllium content of the waste objects is in the form of surface contamination. Both uranium and beryllium contamination levels are expected to be relatively low. The NRC staff has determined that the shipments by BWXT would be nuclearly safe with certain license conditions applied; however, given there is no uranium level below which the 0.1 percent beryllium to uranium ratio does not apply, this material can not be classified as fissile exempt under the current regulation.

1.5 Alternatives

The alternatives available to the NRC are:

1. Approve the license amendment request as submitted; or

2. Deny the amendment request.

2.0 Affected Environment

The affected environment for Alternative 1 would be the immediate vicinity of the vehicle used to transport the material to a licensed disposal facility.

The affected environment for Alternative 2 is the BWXT site. A full description of the site and its characteristics is given in the 1995 Environmental Assessment for the Renewal of the NRC license for BWXT. The BWXT facility is located on a 525 acre (2 km²) site in the northeastern corner of Campbell County, approximately 5 miles (8km) east of Lynchburg, Virginia. This site is located in a generally rural area, consisting primarily of rolling hills with gentle slopes, farm land, and woodlands. The Navy Nuclear Fuel Division (NNFD) facility is centrally located on the site with the main manufacturing complex contained in a 19 acre (0.08 km²) fenced area.

3.0 Effluent Releases and Monitoring

Alternative 1: No changes to the effluents and monitoring program are expected as a result of approving this amendment request.

Alternative 2: No changes to the effluents and monitoring program are expected as a result of denying this amendment request. The licensee would construct a containment area to process and repackage the waste material. This containment area would effectively prevent the release of waste material to the environment.

4.0 Environmental Impacts of Proposed Action and Alternatives

4.1 Public Health

Alternative 1: The risk to human health from the transportation of all radioactive material in the U.S. was evaluated in the Final Environmental Impact Statement on the Transportation of Radioactive Material by Air and Other Modes (NRC, 1977). The principal radiological environmental impact during normal transportation is direct radiation exposure to nearby persons from radioactive material in the package. The average annual individual dose from all radioactive material transportation in the U.S. was calculated to be approximately 0.5 mrem, well below the 10 CFR part 20 requirement of 100 mrem for a member of the public.

Occupational health was also considered in the Final Environmental Impact Statement on the Transportation of Radioactive Material by Air and Other Modes (NRC, 1977). The average annual occupational dose to the driver(s) is estimated to be 8.7 mSv (870 mrem), which is below the 10 CFR part 20 requirement of 50 mSv (5000 mrem). The Department of Transportation (DOT) regulations in 49 CFR 177.842(g) require that the radiation dose may not exceed 0.02 mSv (2 mrem) per hour in any position normally occupied in a motor vehicle. Shipment of these materials would not affect the assessment of environmental impacts or the conclusions in the Final Environmental Impact Statement on the Transportation of Radioactive Material by Air and Other Modes (NRC, 1977).

Alternative 2: The risk to the public health is not expected to increase as a result of denying this amendment request, under normal operating conditions. The licensee already has controls in place to prevent the migration of material off-site.

The occupational health impacts associated with the denial of this amendment request were evaluated. The material to be shipped is currently packaged and stored in containers which are not approved by the NRC. In order to ship the material in NRC-approved packages, the material will need to be processed and repackaged. The licensee would need to construct a containment area in order to limit personnel exposure to airborne beryllium. Actions would be taken to control occupational exposure such as limited exposure times, bioassays, and respirator use. The risk for worker exposure to uranium and beryllium would increase as a result of denying this amendment request.

4.2 Water Resources

Alternative 1: The NRC staff has determined that the proposed amendment will not impact the quality of water resources as a result of normal transport.

Alternative 2: The NRC staff has determined that denial of the proposed amendment request will not impact the quality of water resources at or near the BWXT site.

4.3 Geology, Soils, Air Quality, Demography, Biota, Cultural and Historic Resources

Alternative 1: The NRC staff has determined that the proposed amendment will not impact geology, soils, air quality, demography, biota, or cultural or historic resources under normal transport conditions.

Alternative 2: The NRC staff has determined that denial of the proposed amendment will not impact geology, soils, air quality, demography, biota, or cultural or historic resources at or near the BWXT site.

4.4 Alternatives

The action that the NRC is considering is approval of an amendment request to a Materials license issued pursuant to 10 CFR part 70. The proposed action is to amend NRC Materials License SNM-42 to exempt the licensee from the beryllium-to-fissile mass ratio limit specified in the fissile material exemption standards of 10 CFR 71.53. The alternatives available to the NRC are:

1. Approve the license amendment request as submitted; or

2. Deny the amendment request.

Based on its review, the NRC staff has concluded that the environmental impacts associated with the proposed action do not warrant denial of the license amendment. In addition, the denial of the amendment request would require the licensee to ship the waste in packages approved by the NRC, thereby increasing the risk of beryllium exposure to personnel due to significant cutting and processing. The staff considers that Alternative 1 is the appropriate alternative for selection.

5.0 Agencies and Persons Contacted

The NRC contacted a representative from the Virginia Department of Health in correspondence dated May 25, 2000.

6.0 References

U.S. Nuclear Regulatory Commission (NRC), December 1977, “Final Environmental Impact Statement on the Transportation of Radioactive Material by Air and Other Modes.” U.S. Nuclear Regulatory Commission (NRC), August 1995, “Environmental Assessment for Renewal of Special Nuclear Material License SNM-42.”

7.0 Conclusions

Based on an evaluation of the environmental impacts of the amendment request, the NRC has determined that the proper action is to issue a FONSI in the Federal Register. The NRC staff considered the environmental consequences of exempting the licensee from the beryllium-to-fissile mass ratio limit specified in the fissile material exemption standards in 10 CFR 71.53, and have determined that the approval of this exemption will have no adverse effect on public health and safety or the environment.

Finding of No Significant Impact

The Commission has prepared an Environmental Assessment related to the amendment of Special Nuclear Material License SNM-42. On the basis of the assessment, the Commission has concluded that environmental impacts associated with the proposed action would not be significant and do not warrant the preparation of an Environmental Impact Statement. Accordingly, the Commission is making a Finding of No Significant Impact.

The Environmental Assessment and the documents related to this proposed action are available for public inspection and copying at the Commission's Public Document Room at the Gelman Building, 2120 L Street NW., Washington, DC.

Opportunity for a Hearing

Based on the Environmental Assessment and Finding of No Significant Impact, and a staff safety evaluation to be completed, NRC is preparing to amend License SNM-42. The NRC hereby provides that this is a proceeding on an application for amendment of a license falling within the scope of Subpart L, “Informal Hearing Procedures for Adjudication in Materials Licensing Proceedings,” of NRC's rules and practice for domestic licensing proceedings in 10 CFR part 2. Pursuant to § 2.1205(a), any person whose interest may be affected by this proceeding may file a request for a hearing in accordance with § 2.1205(d). A request for a hearing must be filed within thirty (30) days of the date of publication of this Federal Register notice.

A request for hearing or petition for leave to intervene must be filed with the Secretary of the Commission, U.S. Nuclear Regulatory Commission either:

1. By delivery to the Rulemakings and Adjudications Staff of the Secretary at One White Flint North, 11555 Rockville Pike, Rockville, MD 20852-2738; or

2. By mail or telegram addressed to the Secretary, U.S. Nuclear Regulatory Commission, Washington, DC 20555-0001. Attention: Rulemakings and Adjudications Staff.

In addition to meeting other applicable requirements of 10 CFR part 2 of the NRC's regulations, a request for a hearing filed by a person other than an applicant must describe in detail:

1. The interest of the requester in the proceeding;

2. How that interest may be affected by the results of the proceeding, including the reasons why the requestor should be permitted a hearing, with particular reference to the factors set out in § 2.1205(h).

3. The requester's areas of concern about the licensing activity that is the subject matter of the proceeding; and

4. The circumstances establishing that the request for a hearing is timely in accordance with § 2.1205(d).

In accordance with 10 CFR Section 2.1205(f), each request for a hearing must also be served, by delivering it personally or by mail to:

1. The applicant, BWX Technologies, P.O. Box 785, Lynchburg, VA; and

2. The NRC staff, by delivering it to the Executive Director for Operations, One White Flint North, 11555 Rockville Pike, Rockville, MD 20852, or by mail, addressed to the Executive Director for Operations, U.S. Nuclear Regulatory Commission, Washington, DC 20555.

The NRC contact for this licensing action is Thomas Cox. Mr. Cox may be contacted at (301) 415-8107 or by e-mail at THC@nrc.gov for more information about this licensing action.

Dated at Rockville, Maryland, this 3rd day of July, 2000.
For the Nuclear Regulatory Commission.
Philip Ting,
Chief, Fuel Cycle Licensing Branch, Division of Fuel Cycle Safety and Safeguards, Office of Nuclear Material Safety and Safeguards.

[FR Doc. 00-17342 Filed 7-7-00; 8:45 am]

BILLING CODE 7590-01-P